FEDERAL COMMUNICATIONS COMMISSION

[CC Docket No. 96-45; DA 01-1842]

The Federal-State Joint Board on Universal Service

AGENCY: Federal Communications Commission.

ACTION: Notice; comments requested.

SUMMARY: This document seeks comment on Guam Cellular and Paging, Inc. d/b/a Guamcell Communications (Guamcell) petition seeking designation of eligibility to receive universal service support for service offered in Guam.

DATES: Comments are due on or before September 6, 2001. Reply comments are due on or before September 21, 2001.

ADDRESSES: See Supplementary Information section for where and how to file comments.

FOR FURTHER INFORMATION CONTACT: Richard D. Smith, Attorney, Common Carrier Bureau, Accounting Policy Division, (202) 418-7400, TTY: (202) 418-0484.

SUPPLEMENTARY INFORMATION: On July 26, 2001, Guamcell filed with the Commission a petition under section 214(e)(6) seeking designation as an eligible telecommunications carrier (ETC) to receive federal universal service support for service offered in Guam. Specifically, Guamcell contends that: (1) The Public Utilities Commission of Guam (Guam Commission) has provided an affirmative statement that it does not regulate commercial mobile radio service (CMRS) carriers, (2) Guamcell meets all the statutory and regulatory prerequisites for ETC designation, and (3) designating Guamcell as an ETC will serve the public interest.

The petitioner must provide copies of its petitions to the Guam Commission at the time of filing with the Commission. The Commission will also send a copy of this Public Notice to the Guam Commission by overnight express mail to ensure that the Guam Commission is notified of the notice and comment period.

Pursuant to §§ 1.415 and 1.419 of the Commission's rules, interested parties may file comments as follows: comments are due September 6, 2001, and reply comments are due September 21, 2001. Comments may be filed using the Commision's Electronic Comment Filing System (ECFS) or by filing paper copies. See Electronic filing of Documents in Rulemaking Proceedings, 63 FR 24121, May 1, 1998. Comments filed through the ECFS can be sent as an electronic file via the Internet to http://www/fcc/gov/e-file/eefs.html. Generally, only one copy of the electronic submission must be filed. In completing the transmittal screen, commenters should include their full name, Postal Service mailing address, and the applicable docket or rulemaking number. Parties may also submit electronic comments by Internet e-mail. To receive filing instructions for e-mail comments, commenters should send an e-mail to ecfs@fcc.gov, and should include the following words in the body of message, “get form [your e-mail address].” A sample form and directions will be sent in reply. Parties who choose to file by paper must file an original and four copies of each filing. All filings must be sent to the Commission's Secretary, Magalie Roman Salas, Office of the Secretary, Federal Communications Commission, 445 12 Street, SW., Washington, DC 20554.

Parties also must send three paper copies of their filing to Sheryl Todd, Accounting Policy Division, Common Carrier Bureau, Federal Communications Commission, 445 Twelfth Street SW., Room 5-A422, Washington, DC 20554. In addition, commenters must send diskette copies to the Commission's copy contractor, International Transcription Service, Inc. 1231 20th Street, NW., Washington, DC 20037.

Pursuant to § 1.1206 of the Commission's Rules, this proceeding will continue to be conducted as a permit-but-disclose proceeding in which ex-parte communications are permitted subject to disclosure.

Federal Communications Commission.
Katherine L. Schroder,
Division Chief, Accounting Policy Division.

[FR Doc. 01-19680 Filed 8-6-01; 8:45 am]

BILLING CODE 6712-01-M